NATIONAL SCIENCE FOUNDATION

Notice of Permit Applications Received Under the Antarctic Conservation Act of 1978 (Pub. L. 95-541)

AGENCY: National Science Foundation.

ACTION: Notice of Permit Modification Received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to this permit application by February 11, 2009. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2009-022) to Dr. Ross D. E. MacPhee on December 8, 2008. The issued permit allows the applicant to enter Byers Peninsula (ASPA #126) to collect vertebrate fossils for stable isotope analysis.

The applicant requests a modification of his permit to allow collection of modern biological specimens (bones and teeth of marine mammal and penguins) for destructive isotope analysis to look at the carbon (and perhaps nitrogen) isotopes, date if possible, and determine changes in trophic level, diet, foraging area, and weathering rates.

Location: Byers Peninsula (ASPA 126).

Dates: February 15, 2009 to March 30, 2009.

Nadene G. Kennedy,
Permit Officer, Office of Polar Programs.

[FR Doc. E9-233 Filed 1-9-09; 8:45 am]

BILLING CODE 7555-01-P